DEPARTMENT OF HEALTH AND HUMAN SERVICES

National Institutes of Health

National Institute of Biomedical Imaging and Bioengineering; Notice of Closed Meeting

Pursuant to section 10(d) of the Federal Advisory Committee Act, as amended, notice is hereby given of a meeting of the Board of Scientific Counselors, National Institute of Biomedical Imaging and Bioengineering. The meeting will be closed to the public in accordance with the provisions set forth in sections 552b(c)(4) and 552b(c)(6), Title 5 U.S.C., as amended for the review, discussion, and evaluation of individual intramural programs and projects conducted by the NATIONAL INSTITUTE OF BIOMEDICAL IMAGING AND BIOENGINEERING, including consideration of personnel qualifications and performance, and the competence of individual investigators, the disclosure of which would constitute a clearly unwarranted invasion of personal privacy.

Name of Committee: Board of Scientific Counselors, Institute of Biomedical Imaging and Bioengineering; BSC, June 2020.

Date: June 11-12, 2020.

Time: 8:30 a.m. to 12:30 p.m.

Agenda: To review and evaluate personnel qualifications and performance, and competence of individual investigators.

Place: National Institutes of Health, Building 13, 9000 Rockville Pike, Bethesda, MD 20892 (Virtual Meeting).

Contact Person: Richard D. Leapman, Ph.D., Intramural Scientific Director, National Institute of Biomedical Imaging and Bioengineering, 6707 Democracy Boulevard, Room 920 Building 13, Rm 3E 73, Bethesda, MD 20892, (301) 496-2599, leapmanr@mail.nih.gov.

Dated: April 28, 2020.
Miguelina Perez,
Program Analyst, Office of Federal Advisory Committee Policy.

[FR Doc. 2020-09362 Filed 5-1-20; 8:45 am]

BILLING CODE 4140-01-P